DEPARTMENT OF AGRICULTURE

Office of the Secretary

7 CFR Part 2

RIN 0503-AA51

Delegations of Authority

AGENCY: Office of the Secretary, USDA.

ACTION: Final rule.

SUMMARY: This document revises the delegations of authority from the Secretary of Agriculture and general officers of the Department of Agriculture (USDA) to reflect changes in the coordination of Departmental remote sensing activities. These responsibilities are consolidated within the Office of the Chief Information Officer (OCIO) to create a single focal point for coordinating all Departmental geospatial activities.

DATES: Effective March 14, 2012.

FOR FURTHER INFORMATION CONTACT: Stephen Lowe, (202) 720-0880.

SUPPLEMENTARY INFORMATION:

Office of the Chief Economist—Remote Sensing Activities

The Chief Economist, by delegation from the Secretary of Agriculture (Secretary), is responsible for coordinating USDA remote sensing activities (7 CFR 2.29(a)(6)). Within the Office of the Chief Economist (OCE), these responsibilities are further delegated to the Chairman of the World Agricultural Outlook Board (WAOB) (7 CFR 2.72(a)(4)). WAOB coordinates USDA remote sensing activities by chairing the Remote Sensing Coordination Committee (RSCC). RSCC convenes remote sensing experts from multiple USDA agencies to promote information sharing and to help ensure the most efficient and cost effective use of remote sensing data and technologies within USDA.

Office of the Chief Information Officer—Geospatial Activities

The Assistant Secretary for Administration, by delegation from the Secretary, is responsible for coordinating USDA geospatial activities (7 CFR 2.24(a)(2)(xi)(G)). Within the Departmental Management organization, this responsibility is further delegated to the Chief Information Officer (7 CFR 2.89(a)(11)(vii)). The Office of the Chief Information Officer (OCIO) coordinates Departmental geospatial activities by chairing the Enterprise Geospatial Management Office (EGMO) Agency Advisory Council. A part of the responsibility of OCIO is to fulfill the leadership requirements of the Senior Agency Official for Geospatial Information (SAOGI) and ensure the effective implementation in the Department of OMB Circular No. A-16, “Coordination of Geographic Information and Related Spatial Data Activities.” This Circular defines geospatial data as: information that identifies the geographic location and characteristics of natural or constructed features and boundaries on the Earth. This information may be derived from, among other things, remote sensing, mapping, and surveying technologies.

Consolidating Coordination Activities

Departmental remote sensing and geospatial activities are currently managed by two separate USDA Offices, OCE and OCIO. Because remote sensing data are a subset of geospatial information, the authorities related to remote sensing that are delegated to the Chairman of the WAOB, through the Chief Economist, are being transferred to the Chief Information Officer, through the Assistant Secretary for Administration. This transfer of authority benefits USDA by providing a single focal point for coordinating all Departmental geospatial activities, remote sensing or other, and enabling spatial data and service lifecycle performance management to increase the value of USDA assets for stakeholders.

This transfer of authority does not alter existing delegations of authority to the Administrator of the Foreign Agricultural Service relating to the support of remote sensing activities and research with satellite imagery (7 CFR 2.43(a)(45)), or to the Under Secretary for Research, Education, and Economics and the Administrator of the Agricultural Research Service, relating to the conduct of remote-sensing and other weather-related research (7 CFR 2.21(a)(1)(lxix)); 7 CFR 2.65(a)(33)).

Classification

This rule relates to internal agency management. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Enforcement Fairness Act of 1996 (5 U.S.C. 601 et seq.), or the Congressional Review Act (5 U.S.C. 801 et seq.), and thus is exempt from the provisions of those Acts. This rule contains no information collection or recordkeeping requirements under the Paperwork Reduction Act of 1995 (44 U.S.C. 3501 et seq.).

List of Subjects in 7 CFR Part 2

Authority delegations (Government agencies).

For the reasons discussed in the preamble, the Department of Agriculture amends 7 CFR part 2 as follows:

PART 2—DELEGATIONS OF AUTHORITY BY THE SECRETARY OF AGRICULTURE AND GENERAL OFFICERS OF THE DEPARTMENT

1. The authority for part 2 continues to read as follows:

Authority: 7 U.S.C. 6912(a)(1); 5 U.S.C. 301; Reorganization Plan No. 2 of 1953, 3 CFR 1949-1953 Comp., p. 1024.

2. Amend § 2.24 by redesignating paragraphs (a)(2)(xi)(H) through (a)(2)(xi)(P) as paragraphs (a)(2)(xi)(I) through (a)(2)(xi)(Q) and adding new paragraph (a)(2)(xi)(H), to read as follows:

§ 2.24 Assistant Secretary for Administration.

(a) * * *

(2) * * *

(xi) * * *

(H) Provide technical assistance, coordination, and guidance to Department agencies in planning, developing, and carrying out satellite remote sensing activities to ensure full consideration and evaluation of advanced technology; designate the Executive Secretary for the Remote Sensing Coordination Committee; and coordinate administrative, management, and budget information relating to the Department's remote sensing activities including:

(1) Inter- and intra-agency meetings, correspondence, and records;

(2) Budget and management tracking systems; and

(3) Inter-agency contacts and technology transfer.

* * * * *

§ 2.29 [Amended]

3. Amend § 2.29 by removing and reserving paragraph (a)(6).

§ 2.72 [Amended]

4. Amend § 2.72 by removing and reserving paragraph (a)(4).

5. Amend § 2.89 by redesignating paragraphs (a)(11)(viii) through (a)(11)(xvi) as paragraphs (a)(11)(ix) through (a)(11)(xvii) and adding new paragraph (a)(11)(viii), to read as follows:

§ 2.89 Chief Information Officer.

(a) * * *

(11) * * *

(viii) Provide technical assistance, coordination, and guidance to Department agencies in planning, developing, and carrying out satellite remote sensing activities to ensure full consideration and evaluation of advanced technology; designate the Executive Secretary for the Remote Sensing Coordination Committee; and coordinate administrative, management, and budget information relating to the Department's remote sensing activities including:

(A) Inter- and intra-agency meetings, correspondence, and records;

(B) Budget and management tracking systems; and

(C) Inter-agency contacts and technology transfer.

* * * * *

Signed in Washington, DC, this day: March 5, 2012.
Thomas J. Vilsack,
Secretary.

[FR Doc. 2012-5957 Filed 3-13-12; 8:45 am]

BILLING CODE 3410-90-P